DEPARTMENT OF ENERGY

Federal Energy Regulatory Commission

Combined Notice of Filings

Take notice that the Commission has received the following Natural Gas Pipeline Rate and Refund Report filings:

Filings Instituting Proceedings

Docket Numbers: RP14-99-000.

Applicants: Midwestern Gas Transmission Company.

Description: Midwestern Gas Transmission Company's 2012-2013 Cashout Report.

Filed Date: 10/30/13.

Accession Number: 20131030-5192.

Comments Due: 5 p.m. ET 11/12/13.

Docket Numbers: RP14-100-000.

Applicants: Texas Eastern Transmission, LP.

Description: ConocoPhillips 11-01-2013 Releases to be effective 11/1/2013.

Filed Date: 10/31/13.

Accession Number: 20131031-5048.

Comments Due: 5 p.m. ET 11/12/13.

Docket Numbers: RP14-101-000.

Applicants: Gulf South Pipeline Company, LP.

Description: Amendment to Neg Rate Agmts (QEP 36601-18 and 37657-42) to be effective 11/1/2013.

Filed Date: 10/31/13.

Accession Number: 20131031-5050.

Comments Due: 5 p.m. ET 11/12/13.

Docket Numbers: RP14-102-000.

Applicants: Gulf South Pipeline Company, LP.

Description: Cap Rel Neg Rate Agmt (BP 37663 to Encana 41414) to be effective 11/1/2013.

Filed Date: 10/31/13.

Accession Number: 20131031-5054.

Comments Due: 5 p.m. ET 11/12/13.

Docket Numbers: RP14-103-000.

Applicants: Gulf South Pipeline Company, LP.

Description: Cap Rel Neg Rate Agmt (BP 34686 to Enerquest 41426) to be effective 11/1/2013.

Filed Date: 10/31/13.

Accession Number: 20131031-5058.

Comments Due: 5 p.m. ET 11/12/13.

Docket Numbers: RP14-104-000.

Applicants: Sea Robin Pipeline Company, LLC.

Description: Title Page—Housekeeping to be effective 12/1/2013.

Filed Date: 10/31/13.

Accession Number: 20131031-5060.

Comments Due: 5 p.m. ET 11/12/13.

Docket Numbers: RP14-105-000.

Applicants: Algonquin Gas Transmission, LLC.

Description: KeySpan Ramapo November 2013 Releases to be effective 11/1/2013.

Filed Date: 10/31/13.

Accession Number: 20131031-5066.

Comments Due: 5 p.m. ET 11/12/13.

Docket Numbers: RP14-106-000.

Applicants: Algonquin Gas Transmission, LLC.

Description: Brooklyn Union Ramapo November 2013 Releases to be effective 11/1/2013.

Filed Date: 10/31/13.

Accession Number: 20131031-5068.

Comments Due: 5 p.m. ET 11/12/13.

Docket Numbers: RP14-107-000.

Applicants: Gulf South Pipeline Company, LP.

Description: Cap Rel Neg Rate Agmt (EOG 34687 to TransLouisiana 41436) to be effective 11/1/2013.

Filed Date: 10/31/13.

Accession Number: 20131031-5071.

Comments Due: 5 p.m. ET 11/12/13.

Docket Numbers: RP14-108-000.

Applicants: Algonquin Gas Transmission, LLC.

Description: ConEd Ramapo November 2013 Releases to be effective 11/1/2013.

Filed Date: 10/31/13.

Accession Number: 20131031-5072.

Comments Due: 5 p.m. ET 11/12/13.

Docket Numbers: RP14-109-000.

Applicants: Portland Natural Gas Transmission System.

Description: Section 8.1 Revision to be effective 11/1/2013.

Filed Date: 10/31/13.

Accession Number: 20131031-5087.

Comments Due: 5 p.m. ET 11/12/13.

Docket Numbers: RP14-110-000.

Applicants: Natural Gas Pipeline Company of America.

Description: Renaissance Negotiated Rate to be effective 11/1/2013.

Filed Date: 10/31/13.

Accession Number: 20131031-5103.

Comments Due: 5 p.m. ET 11/12/13.

Docket Numbers: RP14-111-000.

Applicants: ETC Tiger Pipeline, LLC.

Description: ETC Tiger 2013 Semi-Annual Fuel Filing on 10/31/13 to be effective 12/1/2013.

Filed Date: 10/31/13.

Accession Number: 20131031-5111.

Comments Due: 5 p.m. ET 11/12/13.

Docket Numbers: RP14-112-000.

Applicants: ETC Tiger Pipeline, LLC.

Description: ETC Tiger Out of Cycle Fuel Filing on 10/31/13 to be effective 12/1/2013.

Filed Date: 10/31/13.

Accession Number: 20131031-5113.

Comments Due: 5 p.m. ET 11/12/13.

Docket Numbers: RP14-113-000.

Applicants: Northern Natural Gas Company.

Description: 20131031 Flint Hills Non-Conforming to be effective 12/1/2013.

Filed Date: 10/31/13.

Accession Number: 20131031-5114.

Comments Due: 5 p.m. ET 11/12/13.

Docket Numbers: RP14-114-000.

Applicants: Fayetteville Express Pipeline LLC.

Description: FEP 2013 Semi-Annual Fuel Filing 10/31/13 to be effective 12/1/2013.

Filed Date: 10/31/13.

Accession Number: 20131031-5115.

Comments Due: 5 p.m. ET 11/12/13.

Docket Numbers: RP14-115-000.

Applicants: Texas Eastern Transmission, LP.

Description: Range Resources 11-1-2013 release to DTE Energy to be effective 11/1/2013.

Filed Date: 10/31/13.

Accession Number: 20131031-5116.

Comments Due: 5 p.m. ET 11/12/13.

Docket Numbers: RP14-116-000.

Applicants: Transcontinental Gas Pipe Line Company.

Description: Non-Conforming Agreements—Cherokee to be effective 11/1/2013.

Filed Date: 10/31/13.

Accession Number: 20131031-5117.

Comments Due: 5 p.m. ET 11/12/13.

Docket Numbers: RP14-117-000.

Applicants: Wyoming Interstate Company, L.L.C.

Description: FL&U Filing Effective December 1, 2013 to be effective 12/1/2013.

Filed Date: 10/31/13.

Accession Number: 20131031-5120.

Comments Due: 5 p.m. ET 11/12/13.

Docket Numbers: RP14-118-000.

Applicants: WBI Energy Transmission, Inc.

Description: Section 4 Rate Case to be effective 12/1/2013.

Filed Date: 10/31/13.

Accession Number: 20131031-5134.

Comments Due: 5 p.m. ET 11/12/13.

Docket Numbers: RP14-119-000.

Applicants: Rockies Express Pipeline LLC.

Description: Neg Rate NC 2013-10-25 Ultra, Encana, ConocoPhillips to be effective 11/1/2013.

Filed Date: 10/31/13.

Accession Number: 20131031-5137.

Comments Due: 5 p.m. ET 11/12/13.

Docket Numbers: RP14-120-000.

Applicants: Natural Gas Pipeline Company of America.

Description: Removing Expiring Agreements to be effective 12/1/2013.

Filed Date: 10/31/13.

Accession Number: 20131031-5153.

Comments Due: 5 p.m. ET 11/12/13.

Docket Numbers: RP14-121-000.

Applicants: Northern Natural Gas Company.

Description: 20131031 Negotiated Rate to be effective 11/1/2013.

Filed Date: 10/31/13.

Accession Number: 20131031-5156.

Comments Due: 5 p.m. ET 11/12/13.

Docket Numbers: RP14-122-000.

Applicants: East Tennessee Natural Gas, LLC.

Description: Negotiated Rates for 11-1-2013 to be effective 11/1/2013.

Filed Date: 10/31/13.

Accession Number: 20131031-5174.

Comments Due: 5 p.m. ET 11/12/13.

Docket Numbers: RP14-123-000.

Applicants: Algonquin Gas Transmission, LLC.

Description: AGT FRQ 2013 FILING to be effective 12/1/2013.

Filed Date: 10/31/13.

Accession Number: 20131031-5194.

Comments Due: 5 p.m. ET 11/12/13.

Docket Numbers: RP14-124-000.

Applicants: Southern LNG Company, L.L.C.

Description: SLNG Electric Power Cost Adjustment—2013 to be effective 12/1/2013.

Filed Date: 10/31/13.

Accession Number: 20131031-5196.

Comments Due: 5 p.m. ET 11/12/13.

Docket Numbers: RP14-125-000.

Applicants: Algonquin Gas Transmission, LLC.

Description: ConEd 2nd Ramapo Release November 2013 to be effective 11/1/2013.

Filed Date: 10/31/13.

Accession Number: 20131031-5204.

Comments Due: 5 p.m. ET 11/12/13.

Docket Numbers: RP14-126-000.

Applicants: Dominion Transmission, Inc.

Description: DTI—October 31, 2013 Nonconforming Service Agreement to be effective 11/1/2013.

Filed Date: 10/31/13.

Accession Number: 20131031-5208.

Comments Due: 5 p.m. ET 11/12/13.

Docket Numbers: RP14-127-000.

Applicants: Texas Eastern Transmission, LP.

Description: Rate Schedules X-135 and X-137 Term Extension to be effective 11/1/2013.

Filed Date: 10/31/13.

Accession Number: 20131031-5216.

Comments Due: 5 p.m. ET 11/12/13.

Docket Numbers: RP14-128-000.

Applicants: Ozark Gas Transmission, L.L.C.

Description: Neg Rate—Tenaska Marketing Ventures 11-1-2013 to be effective 11/1/2013.

Filed Date: 10/31/13.

Accession Number: 20131031-5223.

Comments Due: 5 p.m. ET 11/12/13.

Docket Numbers: RP14-129-000.

Applicants: Algonquin Gas Transmission, LLC.

Description: AGT Negotiated Rate Filing—Falcon to be effective 11/1/2013.

Filed Date: 10/31/13.

Accession Number: 20131031-5247.

Comments Due: 5 p.m. ET 11/12/13.

Docket Numbers: RP14-130-000.

Applicants: Midcontinent Express Pipeline LLC.

Description: Fuel Tracker 12/1/13 to be effective 12/1/2013.

Filed Date: 10/31/13.

Accession Number: 20131031-5249.

Comments Due: 5 p.m. ET 11/12/13.

Docket Numbers: RP14-131-000.

Applicants: Tallgrass Interstate Gas Transmission, L.

Description: Neg Rate 2013-10-31 DCP(2), Cheasp. and Cross Timbers to be effective 11/1/2013.

Filed Date: 10/31/13.

Accession Number: 20131031-5251.

Comments Due: 5 p.m. ET 11/12/13.

Docket Numbers: RP14-132-000.

Applicants: Transcontinental Gas Pipe Line Company.

Description: Negotiated Rates—Leidy East—PECO to be effective 11/1/2013.

Filed Date: 10/31/13.

Accession Number: 20131031-5255.

Comments Due: 5 p.m. ET 11/12/13.

Docket Numbers: RP14-133-000.

Applicants: Iroquois Gas Transmission System, L.P.

Description: 10/31/13 Negotiated Rates—United Energy Trading, LLC (RTS) 5095-22 to be effective 11/1/2013.

Filed Date: 10/31/13.

Accession Number: 20131031-5256.

Comments Due: 5 p.m. ET 11/12/13.

Docket Numbers: RP14-134-000.

Applicants: Viking Gas Transmission Company.

Description: Conforming Backhaul Agreement NSP.

Filed Date: 10/31/13.

Accession Number: 20131031-5258.

Comments Due: 5 p.m. ET 11/12/13.

Docket Numbers: RP14-135-000.

Applicants: Transcontinental Gas Pipe Line Company.

Description: Update List of Non-Conforming Service Agreements (Cherokee) to be effective 11/1/2013.

Filed Date: 10/31/13.

Accession Number: 20131031-5286.

Comments Due: 5 p.m. ET 11/12/13.

Docket Numbers: RP14-136-000.

Applicants: Guardian Pipeline, L.L.C.

Description: Negotiated Rate Agreements—Tenaska Gas Storage, L.L.C. to be effective 11/1/2013.

Filed Date: 11/1/13.

Accession Number: 20131101-5000.

Comments Due: 5 p.m. ET 11/13/13.

Docket Numbers: RP14-137-000.

Applicants: Texas Eastern Transmission, LP.

Description: ASA TETLP DEC 2013 FILING to be effective 12/1/2013.

Filed Date: 11/1/13.

Accession Number: 20131101-5001.

Comments Due: 5 p.m. ET 11/13/13.

Docket Numbers: RP14-138-000.

Applicants: ANR Pipeline Company.

Description: Nexen—Wisconsin Agmts to be effective 11/1/2013.

Filed Date: 11/1/13.

Accession Number: 20131101-5030.

Comments Due: 5 p.m. ET 11/13/13.

Docket Numbers: RP14-139-000.

Applicants: Enable Gas Transmission, LLC.

Description: Negotiated Rate Filing—November 2013 to be effective 11/1/2013.

Filed Date: 11/1/13.

Accession Number: 20131101-5043.

Comments Due: 5 p.m. ET 11/13/13.

Docket Numbers: RP14-140-000.

Applicants: Texas Gas Transmission, LLC.

Description: Amendment to Neg Rate Agmt (Cross Timbers 31115-1) to be effective 11/1/2013.

Filed Date: 11/1/13.

Accession Number: 20131101-5054.

Comments Due: 5 p.m. ET 11/13/13.

Docket Numbers: RP14-141-000.

Applicants: Gulf South Pipeline Company, LP.

Description: Permanent and Temporary Releases (HK 37731, 37733 to Petrohawk 41455, 41448) to be effective 11/1/2013.

Filed Date: 11/1/13.

Accession Number: 20131101-5055.

Comments Due: 5 p.m. ET 11/13/13.

Docket Numbers: RP14-142-000.

Applicants: Gulf South Pipeline Company, LP.

Description: Cap Rel Neg Rate Agmt (EnCana 37663 to Texla 41440) to be effective 11/1/2013.

Filed Date: 11/1/13.

Accession Number: 20131101-5056.

Comments Due: 5 p.m. ET 11/13/13.

Docket Numbers: RP14-143-000.

Applicants: Columbia Gas Transmission, LLC.

Description: OTRA—Nov 2013 to be effective 12/1/2013.

Filed Date: 11/1/13.

Accession Number: 20131101-5057.

Comments Due: 5 p.m. ET 11/13/13.

Docket Numbers: RP14-144-000.

Applicants: Gulf South Pipeline Company, LP.

Description: Cap Rel Neg Rate Agmt (JW Operating 34690 to Q West 41466) to be effective 11/1/2013.

Filed Date: 11/1/13.

Accession Number: 20131101-5058.

Comments Due: 5 p.m. ET 11/13/13.

Docket Numbers: RP14-145-000.

Applicants: Iroquois Gas Transmission System, L.P.

Description: 11/01/13 Negotiated Rates—Cargill Incorporated (RTS) 3085-19 to be effective 11/1/2013.

Filed Date: 11/1/13.

Accession Number: 20131101-5147.

Comments Due: 5 p.m. ET 11/13/13.

Docket Numbers: RP14-146-000.

Applicants: Guardian Pipeline, L.L.C.

Description: Transporter's Use Gas and EPC Adjustment Priority Correction to be effective 11/1/2013.

Filed Date: 11/1/13.

Accession Number: 20131101-5150.

Comments Due: 5 p.m. ET 11/13/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 4, 2013.
Nathaniel J. Davis, Sr.,
Deputy Secretary.

[FR Doc. 2013-27062 Filed 11-12-13; 8:45 am]

BILLING CODE 6717-01-P